DEPARTMENT OF COMMERCE

Bureau of Industry and Security

15 CFR Part 744

[Docket No. 231013-0245]

RIN 0694-AJ41

Entity List Additions

AGENCY: Bureau of Industry and Security, Department of Commerce.

ACTION: Final rule.

SUMMARY: In this rule, the Bureau of Industry and Security (BIS) amends the Export Administration Regulations (EAR) by adding 13 entities to the Entity List under the destination of the People's Republic of China (China). These entities have been determined by the U.S. Government to be acting contrary to the national security or foreign policy interests of the United States.

DATES: This rule is effective October 17, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add Beijing Biren Technology Development Co., Ltd.; Guangzhou Biren Integrated Circuit Co., Ltd.; Hangzhou Biren Technology Development Co., Ltd.; Light Cloud (Hangzhou) Technology Co., Ltd.; Moore Thread Intelligent Technology (Beijing) Co., Ltd.; Moore Thread Intelligent Technology (Chengdu) Co., Ltd.; Moore Thread Intelligent Technology (Shanghai) Co., Ltd.; Shanghai Biren Information Technology Co., Ltd.; Shanghai Biren Integrated Circuit Co., Ltd.; Shanghai Biren Intelligent Technology Co., Ltd.; Superburning Semiconductor (Nanjing) Co., Ltd.; Suzhou Xinyan Holdings Co., Ltd.; and Zhuhai Biren Integrated Circuit Co., Ltd., all under the destination of China, to the Entity List. These entities are involved in the development of advanced computing integrated circuits (ICs). As described in an upcoming amendment to regulations regarding advanced computing items and supercomputer and semiconductor end use, advanced computing ICs can be used to provide artificial intelligence capabilities to further development of weapons of mass destruction, advanced weapons systems, and high-tech surveillance applications that create national security concerns. This activity is contrary to U.S. national security and foreign policy interests under § 744.11 of the EAR. For all of these entities, BIS imposes a license requirement for all items subject to the EAR, which will be reviewed under a presumption of denial. They are also given a footnote 4 designation, which means that “items subject to the EAR,” for the purpose of these license requirements, include foreign-produced items that are subject to the EAR pursuant to § 734.9(e)(2) of the EAR.

For the reasons described above, this final rule adds the following 13 entities, including aliases where appropriate, to the Entity List:

China

• Beijing Biren Technology Development Co., Ltd.;

• Guangzhou Biren Integrated Circuit Co., Ltd.;

• Hangzhou Biren Technology Development Co., Ltd.;

• Light Cloud (Hangzhou) Technology Co., Ltd.;

• Moore Thread Intelligent Technology (Beijing) Co., Ltd.;

• Moore Thread Intelligent Technology (Chengdu) Co., Ltd.;

• Moore Thread Intelligent Technology (Shanghai) Co., Ltd.;

• Shanghai Biren Information Technology Co., Ltd.;

• Shanghai Biren Integrated Circuit Co., Ltd.;

• Shanghai Biren Intelligent Technology Co., Ltd.;

• Superburning Semiconductor (Nanjing) Co., Ltd.;

• Suzhou Xinyan Holdings Co., Ltd.; and

• Zhuhai Biren Integrated Circuit Co., Ltd.

Savings Clause

For the changes being made in this final rule, shipments of items removed from eligibility for a License Exception or export, reexport, or transfer (in-country) without a license (NLR) as a result of this regulatory action that were en route aboard a carrier to a port of export, reexport, or transfer (in-country), on October 17, 2023, pursuant to actual orders for export, reexport, or transfer (in-country) to or within a foreign destination, may proceed to that destination under the previous eligibility for a License Exception or export, reexport, or transfer (in-country) without a license (NLR) before November 16, 2023. Any such items not actually exported, reexported or transferred (in-country) before midnight, on October 17, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 7, 2023, 88 FR 62439 (September 11, 2023).

2. Supplement no. 4 is amended under CHINA, PEOPLE'S REPUBLIC OF by adding, in alphabetical order, entries for “Beijing Biren Technology Development Co., Ltd.;” “Guangzhou Biren Integrated Circuit Co., Ltd.;” “Hangzhou Biren Technology Development Co., Ltd.;” “Light Cloud (Hangzhou) Technology Co., Ltd.;” “Moore Thread Intelligent Technology (Beijing) Co., Ltd.;” “Moore Thread Intelligent Technology (Chengdu) Co., Ltd.;” “Moore Thread Intelligent Technology (Shanghai) Co., Ltd.”, “Shanghai Biren Information Technology Co., Ltd.;” “Shanghai Biren Integrated Circuit Co., Ltd.;” “Shanghai Biren Intelligent Technology Co., Ltd.;” “Superburning Semiconductor (Nanjing) Co., Ltd.;” “Suzhou Xinyan Holdings Co., Ltd.;” and “Zhuhai Biren Integrated Circuit Co., Ltd.” to read as follows:

Supplement No. 4 to Part 744—Entity List

* * * * *

Country | Entity | License requirement | License review policy | Federal Register citation
* * * * * * *
CHINA, PEOPLE'S REPUBLIC OF | * * * * * *
| Beijing Biren Technology Development Co., Ltd., Building 13, Room 201, 9th Floor, Wangjing East Area, Zone 4, Chaoyang District, Beijing, China. | For all items subject to the EAR. (See §§ 734.9(e)(2) and 744.11 of the EAR) ⁴. | Presumption of denial | 88 FR [INSERT FR PAGE NUMBER ] 10/19/2023.
| * * * * * *
| Guangzhou Biren Integrated Circuit Co., Ltd., Room 1061, Room 406, No. 1 Yichuang Street, Sino-Singapore Guangzhou Knowledge City, Huangpu District, Guangzhou, China. | For all items subject to the EAR. (See §§ 734.9(e)(2) and 744.11 of the EAR) ⁴. | Presumption of denial | 88 FR [INSERT FR PAGE NUMBER ] 10/19/2023.
| * * * * * *
| Hangzhou Biren Technology Development Co., Ltd., Building A, Room 3029, 3rd Floor, No. 482 Qianmo Road, Binjiang District, Hangzhou, China. | For all items subject to the EAR. (See §§ 734.9(e)(2) and 744.11 of the EAR) ⁴. | Presumption of denial | 88 FR [INSERT FR PAGE NUMBER ] 10/19/2023.
| * * * * * *
| Light Cloud (Hangzhou) Technology Co., Ltd., Room 403, Building 15, No. 1818-2, Wenyi West Road, Yuhang Street, Yuhang District, Hangzhou, China. | For all items subject to the EAR. (See §§ 734.9(e)(2) and 744.11 of the EAR) ⁴. | Presumption of denial | 88 FR [INSERT FR PAGE NUMBER ] 10/19/2023.
| * * * * * *
| Moore Thread Intelligent Technology (Beijing) Co., Ltd., a.k.a, the following two aliases: —Moore Threads; and —Mo'er Xianchen. | For all items subject to the EAR. (See §§ 734.9(e)(2) and 744.11 of the EAR) ⁴. | Presumption of denial | 88 FR [INSERT FR PAGE NUMBER ] 10/19/2023.
| Room 209, Floor 2, No. 31, Haidian Street, Haidian District, Beijing, China; and Building 14, B655, 4th Floor, Cuiwei Zhongli, Haidian District, Beijing, China; and Units 04 and 05, Floor 12, No. 3, Jinke Road, Shanghai, China; and Building B, B2-1405, No. 15 Keyuan Road, Nanshan District, Shenzhen, China; and Building 6 Floors 1 and 3, Wangjing East Road, Chaoyang District, Beijing, China; and R&D Center Building, No. R2505, Floors 1-14 and 16-28, East Lake New Technology Development Zone, Wuhan, China; and Building 4, Room 1502, Floor 15, Taiwei Smart Chain Center, Xi'an, China; and Building 1, Room 31816, 3rd Floor, Puyan Street, Binjiang District, Hangzhou, China.
| Moore Thread Intelligent Technology (Chengdu) Co., Ltd., Building 2, No. 23-32, 12th Floor, Block E5, Chengdu High-tech Zone, Pilot Free Trade Zone, Chengdu, China. | For all items subject to the EAR. (See §§ 734.9(e)(2) and 744.11 of the EAR) ⁴. | Presumption of denial | 88 FR [INSERT FR PAGE NUMBER ] 10/19/2023.
| Moore Thread Intelligent Technology (Shanghai) Co., Ltd., Units 1-5, 12th Floor, No. 2, Jinke Road, Pilot Free Trade Zone, Shanghai, China. | For all items subject to the EAR. (See §§ 734.9(e)(2) and 744.11 of the EAR) ⁴. | Presumption of denial | 88 FR [INSERT FR PAGE NUMBER ] 10/19/2023.
| * * * * * *
| Shanghai Biren Information Technology Co., Ltd., Building 2, No. 692 Yongjia Road, Xuhui District, Shanghai, China. | For all items subject to the EAR. (See §§ 734.9(e)(2) and 744.11 of the EAR) ⁴. | Presumption of denial | 88 FR [INSERT FR PAGE NUMBER ] 10/19/2023.
| Shanghai Biren Integrated Circuit Co., Ltd., Building 16, Room 1301, 13th Floor, No. 2388 Chenhang Highway, Minhang District, Shanghai, China. | For all items subject to the EAR. (See §§ 734.9(e)(2) and 744.11 of the EAR) ⁴. | Presumption of denial | 88 FR [INSERT FR PAGE NUMBER ] 10/19/2023.
| Shanghai Biren Intelligent Technology Co., Ltd., a.k.a., the following two aliases: —Biren; and —Biren Technology. Building 16, Room 1302, 13th Floor, No. 2388 Chenhang Highway, Minhang District, Shanghai, China. | For all items subject to the EAR. (See §§ 734.9(e)(2) and 744.11 of the EAR) ⁴. | Presumption of denial | 88 FR [INSERT FR PAGE NUMBER ] 10/19/2023.
| * * * * * *
| Superburning Semiconductor (Nanjing) Co., Ltd., No. 8, Lanhua Road, Room 806, Building 4, Pukou District, Nanjing, China. | For all items subject to the EAR. (See §§ 734.9(e)(2) and 744.11 of the EAR) ⁴. | Presumption of denial | 88 FR [INSERT FR PAGE NUMBER ] 10/19/2023.
| * * * * * *
| Suzhou Xinyan Holdings Co., Ltd., a.k.a., the following one alias: —Shanghai Xinzhili Enterprise Development Co., Ltd. | For all items subject to the EAR. (See §§ 734.9(e)(2) and 744.11 of the EAR) ⁴. | Presumption of denial | 88 FR [INSERT FR PAGE NUMBER ] 10/19/2023.
| Modern Logistics Building (no. 112), Room 139, No. 88 Modern Avenue, Suzhou Industrial Park, Free Trade Pilot Zone Suzhou Area, Suzhou, China; and Building C, No. 888 Huanhu West 2nd Road, Lingang New Area, Shanghai, China.
| * * * * * *
| Zhuhai Biren Integrated Circuit Co., Ltd., Building 18, Room 419, No. 1889 Huandao East Road, Hengqin New District, Zhuhai, China. | For all items subject to the EAR. (See §§ 734.9(e)(2) and 744.11 of the EAR) ⁴. | Presumption of denial | 88 FR [INSERT FR PAGE NUMBER ] 10/19/2023.
| * * * * * *
* * * * * * *
* * * * * * *
⁴ For this entity, “items subject to the EAR” includes foreign-produced items that are subject to the EAR under § 734.9(e)(2) of the EAR. See § 744.11(a)(2)(ii) for related license requirements and license review policy.

Thea D. Rozman Kendler,
Assistant Secretary for Export Administration.

[FR Doc. 2023-23048 Filed 10-17-23; 8:45 am]

BILLING CODE 3510-33-P